FEDERAL COMMUNICATIONS COMMISSION

[OMB 3060-1298; FR ID 75434]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before May 10, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control No.: 3060-1298.

Title: Volunteer Service Agreement Form, FCC Form A-384.

Form No.: FCC Form A-384.

Type of Review: Extension of a currently approved collection.

Respondents: Individuals or households.

Number of Respondents and Responses: 140 respondents and 140 responses.

Estimated Time Per Response: 0.25 hours.

Frequency of Response: One-time reporting requirement.

Obligation to Respond: Mandatory. The statutory authority to collect this information derives from 5 U.S.C. 3111, Acceptance of volunteer service. Certification of compliance with COVID-19 vaccine requirements for Federal workers derives from several sources, including most recently Executive Order 13991, Protecting the Federal Workforce and Requiring Mask-Wearing; Executive Order 14043, Requiring Coronavirus Disease 2019 Vaccination for Federal Employees; and OMB Memorandum M 21-15, COVID-19 Safe Federal Workplace: Agency Model Safety Principles (Jan. 24, 2021), as amended.

Total Annual Burden: 35 hours.

Total Annual Cost: No Cost.

Privacy Act Impact Assessment: Yes. Records of current and former Federal employees as defined in 5 U.S.C. 2105, including volunteers, grantees, and contract employees on whom the agency maintains records, are covered by OPM's governmentwide System of Records Notice (SORN) OPM/GOVT-1 General Personnel Records, posted at https://www.opm.gov/information-management/privacy-policy/sorn/opm-sorn-govt-1-general-personnel-records.pdf. The Privacy Impact Assessment (PIA) for the Electronic Official Personnel Folder is posted at https://www.opm.gov/information-management/privacy-policy/privacy-policy/eopf-pia.pdf.

Nature and Extent of Confidentiality: As Privacy Act-protected records, these records are kept confidential and will not be disclosed except under applicable Privacy Act exceptions, including the routine uses identified in the OPM/GOVT-1 SORN.

Needs and Uses: The Civil Service Reform Act of 1978 authorized Federal agencies to establish programs designed to provide educationally related work assignments for students in a non-pay status. The Act provides that heads of agencies may accept, subject to regulations issued by the Office of Personnel Management, volunteer service for the United States if the service (1) is performed by a student, with permission of the institution at which the student is enrolled; (2) is to be uncompensated; and (3) will not displace any employee. Form A-384 establishes the responsibility of students, their institutions, and the FCC as a precondition to accepting individuals as unpaid volunteers.

One such precondition now included on Form A-384, for which the FCC previously received Emergency approval, is the requirement that students comply with regulations and policies pertaining to COVID-19 vaccination requirements for Federal workers. On September 9, 2021, the President issued Executive Order (E.O.) 14043, “Requiring Coronavirus Disease 2019 Vaccination for Federal Employees,” requiring all Federal employees, as defined by 5 U.S.C. 2105, to be vaccinated against COVID-19, with exceptions only as required by law. Although the vaccination requirement is currently the subject of a nationwide injunction, the FCC will continue to develop and implement health and safety protocols to ensure and maintain the safety of all occupants during standard operations and public health emergencies or similar health and safety incidents, such as a pandemic. As relevant here, this includes requiring unpaid employees to report their vaccination status.

Federal Communications Commission.
Marlene Dortch,
Secretary, Office of the Secretary.

[FR Doc. 2022-05155 Filed 3-10-22; 8:45 am]

BILLING CODE 6712-01-P